DEPARTMENT OF COMMERCE

International Trade Administration

[C-570-096]

Aluminum Wire and Cable From the People's Republic of China: Final Results of the Expedited First Sunset Review of the Countervailing Duty Order

AGENCY: Enforcement and Compliance, International Trade Administration, Department of Commerce.

SUMMARY: As a result of this expedited sunset review, the U.S. Department of Commerce (Commerce) finds that revocation of the countervailing duty (CVD) order on aluminum wire and cable (AWC) from the People's Republic of China (China) would be likely to lead to continuation or recurrence of countervailable subsidies at the levels indicated in the “Final Results of Sunset Review” section of this notice.

DATES: Applicable March 11, 2025.

FOR FURTHER INFORMATION CONTACT: Camille Evans, Trade Agreements Policy and Negotiations, Enforcement and Compliance, International Trade Administration, U.S. Department of Commerce, 1401 Constitution Avenue NW, Washington, DC 20230; telephone: (202) 482-2350.

SUPPLEMENTARY INFORMATION:

Background

On December 23, 2019, Commerce published the Order on AWC from China.¹ On November 4, 2024, Commerce published the notice of initiation of the first sunset review of the Order, pursuant to section 751(c)(2) of the Tariff Act of 1930, as amended (the Act).² On November 6, and November 13, 2024, Commerce received notices of intent to participate from the domestic interested parties,³ within the deadline specified in 19 CFR 351.218(d)(1)(i).⁴ The domestic interested parties claimed interested party status under section 771(9)(C) of the Act as a U.S. producer engaged in the production of AWC in the United States. On November 18, and December 4, 2024, Commerce received an adequate substantive responses from the domestic interested parties within the 30-day deadline specified in 19 CFR 351.218(d)(3)(i).⁵ Commerce received no substantive response from the Government of China (GOC) or any respondent interested party.

¹ See Aluminum Wire and Cable from the People's Republic of China: Antidumping Duty and Countervailing Duty Orders, 84 FR 70496 (December 23, 2019) (Order).

² See Initiation of Five-Year (Sunset) Reviews, 89 FR 87543 (November 4, 2024).

³ The domestic interested parties are Encore Wire Corporation (Encore) and Southwire Company, LLC (Southwire).

⁴ See Encore's Letter, “Five-Year (“Sunset”) Review of Antidumping Duty Order on Aluminum Wire and Cable from China: Notice of Intent to Participate,” dated November 6, 2024; and Southwire's Letter, “Aluminum Wire and Cable from the People's Republic of China: Notice of Intent to Participate in Sunset Review,” dated November 13, 2024.

⁵ See Encore's Letter, “Five-Year (“Sunset”) Review of Countervailing Duty Order on Aluminum Wire and Cable from China: Encore's Substantive Response to the Notice of Initiation,” dated November 18, 2024; and Southwire's Letter, “Five-Year (“Sunset”) Review of Countervailing Duty Order on Aluminum Wire and Cable from the People's Republic of China: Southwire's Substantive Response to the Notice of Initiation,” dated December 4, 2024.

On December 26, 2024, Commerce notified the U.S. International Trade Commission that it did not receive an adequate substantive response from the GOC or any respondent interested party.⁶ As a result, Commerce conducted an expedited (120-day) sunset review of the Order, pursuant to section 751(c)(3)(B) of the Act and 19 CFR 351.218(e)(1)(ii)(B)(2) and (C)(2).

⁶ See Commerce's Letter, “Sunset Reviews Initiated on November 4, 2024,” dated December 26, 2024.

Scope of the Order

The merchandise covered by this Order is aluminum wire and cable from China. For a complete description of the scope of the Order, see the Issues and Decision Memorandum.⁷

⁷ See Memorandum, “Issues and Decision Memorandum for the Final Results of the Expedited First Sunset Review of the Countervailing Duty Order on Aluminum Wire and Cable from the People's Republic of China,” dated concurrently with, and hereby adopted by, this notice (Issues and Decision Memorandum).

Analysis of Comments Received

A complete discussion of all issues raised in this sunset review, including the likelihood of continuation or recurrence of subsidization and the countervailable subsidy rates likely to prevail if the Order were to be revoked, is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ See Issues and Decision Memorandum.

Final Results of Sunset Review

Pursuant to sections 751(c) and 752(b) of the Act, Commerce determines that revocation of the Order would be likely to lead to continuation or recurrence of countervailable subsidies at the following net countervailable subsidy rates:

Producers/exporters | Net countervailable subsidy rate (percent ad valorem)
Shanghai Silin Special Equipment Co., Ltd | 165.63
Changfeng Wire & Cable Co., Ltd | 33.44
Shanghai Yang Pu Qu Gong | 165.63
All Others | 33.44

Administrative Protective Order

This notice serves as the only reminder to interested parties subject to an administrative protective order (APO) of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act, and 19 CFR 351.218(e)(1)(ii)(C)(2) and 19 CFR 351.221(c)(5)(ii).

Dated: March 4, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-03822 Filed 3-10-25; 8:45 am]

BILLING CODE 3510-DS-P